DEPARTMENT OF ENERGY

Federal Energy Regulatory Commission

[Docket No. IC10-730-001]

Commission Information Collection Activities (FERC-730); Comment Request; Submitted for OMB Review

February 3, 2010.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (74 FR 59146, 11/17/2009) and has noted that in its submission to OMB.

DATES: Comments on the collection of information are due by March 22, 2010.

ADDRESSES: Address comments on the collection of information to the Office of Management and Budget, Office of Information and Regulatory Affairs, Attention: Federal Energy Regulatory Commission Desk Officer. Comments to OMB should be filed electronically, c/o oira_submission@omb.eop.gov and include OMB Control Number 1902-0238 as a point of reference. The Desk Officer may be reached by telephone at 202-395-4638. A copy of the comments should also be sent to the Federal Energy Regulatory Commission and should refer to Docket No. IC10-730-001. Comments may be filed either electronically or in paper format. Those persons filing electronically do not need to make a paper filing. Documents filed electronically via the Internet must be prepared in an acceptable filing format and in compliance with the Federal Energy Regulatory Commission submission guidelines. Complete filing instructions (including the required number of copies and acceptable filing formats) are available at http://www.ferc.gov/help/submission-guide/electronic-media.asp. To file the document electronically, access the Commission's Web site and click on Documents & Filing, E-Filing (http://www.ferc.gov/docs-filing/efiling.asp), and then follow the instructions for each screen. First-time users will have to establish a user name and password. The Commission will send an automatic acknowledgement to the sender's e-mail address upon receipt of comments.

All comments may be viewed, printed or downloaded remotely via the Internet through FERC's homepage using the “eLibrary” link. For user assistance, contact ferconlinesupport@ferc.gov or toll-free at (866) 208-3676 or for TTY, contact (202) 502-8659.

FOR FURTHER INFORMATION: Ellen Brown may be reached by telephone at (202) 502-8663, by fax at (202) 273-0873, and by e-mail at ellen.brown@ferc.gov.

SUPPLEMENTARY INFORMATION: The FERC-730, “Report of Transmission Investment Activity” (OMB Control No. 1902-0239) is filed by public utilities that have been granted incentive rate treatment for specific electric transmission projects. Filing requirements are specified in 18 CFR 35.35(h). Actual and planned transmission investments, and related project data for the most recent calendar year and the subsequent five years, must be reported annually beginning with the calendar year that the Commission granted the incentive rates.

Congress enacted section 1241 of the Energy Policy Act of 2005 (EPAct 2005), adding a new section 219 to the Federal Power Act (FPA), to promote the operation, maintenance and enhancement of electric transmission infrastructure. Congress aimed to benefit consumers by ensuring reliability and/or reducing the cost of delivered power through reducing transmission congestion. In response to EPAct 2005, in Docket No. RM06-4, the Commission amended its regulations to allow for these incentive-based, (including performance-based), rate treatments.

Through Docket No. RM06-4, the Commission amended its regulations in 18 CFR 35.35 to identify the incentive ratemaking treatments allowed under FPA section 219. Incentives are required to be tailored to the type of transmission investments being made, and each applicant must demonstrate that its proposal meets the requirements of FPA section 219.

The Commission needs the information filed under FERC-730 to provide a basis for determining the effectiveness of the rules and regulations and to provide an accurate assessment of the state of the industry with respect to transmission investment.

Action: The Commission is requesting a three-year extension of the current expiration date for the FERC-730, with no changes.

Burden Statement: Public reporting burden for this collection is estimated as follows.

FERC Information collection | Annual number of respondents | Average number of reponses per respondent | Average burden hours per response | Total annual burden hours
| (1) | (2) | (3) | (1)×(2)×(3)
FERC-730 | 20 | 1 | 30 | 600

The total estimated annual cost burden to respondents is $37,008.75 (600 hours/2080 hours ¹ per year, times $128,297 ² equals $37,008.75).

¹ Number of hours an employee works each year.

² Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. 2010-3100 Filed 2-18-10; 8:45 am]

BILLING CODE 6717-01-P